DEPARTMENT OF COMMERCE

National Oceanic and Atmospheric Administration

DEPARTMENT OF THE INTERIOR

Fish and Wildlife Service

[I.D.110503G]

Final Environmental Impact Statement for an Incidental Take Permit Application and Habitat Conservation Plan (Plan), by J.L. Storedahl & Sons, Inc.(Storedahl), Clark County, WA

AGENCY: National Marine Fisheries Service, National Oceanic and Atmospheric Administration (NOAA), Commerce; U.S. Fish and Wildlife Service (USFWS), Interior.

ACTION: Notice of availability of final environmental impact statement.

SUMMARY: This document announces the availability of the Final Environmental Impact Statement (Statement) for public review. The Statement addresses the proposed issuance of Incidental Take Permits (Permits) to J.L. Storedahl & Sons, Inc., Clark County, WA. The proposed Permits relate to gravel mining, gravel processing, and mining reclamation activities on approximately 300 acres of Storedahl-owned lands adjacent to the East Fork Lewis River, Clark County, WA. The proposed Permits would authorize the take of the following threatened species incidental to otherwise lawful activities: steelhead (Oncorhynchus mykiss), bull trout (Salvelinus confluentus), chum salmon (Oncorhynchus keta), and Chinook salmon (Oncorhynchus tshawytscha). Storedahl is also seeking coverage for five currently unlisted species (including anadromous and resident fish) under specific provisions of the Permits, should these species be listed in the future. The duration of the proposed Permits is 25 years. This notice is provided pursuant to the Endangered Species Act (ESA) and National Environmental Policy Act (NEPA).

DATES: Written comments on the Statement must be received from all interested parties on or before December 29, 2003. A Record of Decision will occur no sooner than 30 days after the publication date of the Environmental Protection Agency's published notice in the Federal Register.

ADDRESSES: See SUPPLEMENTARY INFORMATION section for addresses of locations at which hard-copies of the Plan and associated documents may be obtained or reviewed. To request documents on CD-ROM, call the USFWS at (360) 534-9330.

Comments and requests for information should be sent to Tim Romanski, Storedahl FEIS/HCP Comments, U.S. Fish and Wildlife Service, 510 Desmond Drive, S.E., Suite 102, Lacey, Washington 98503-1263, telephone (360) 753-5823, facsimile (360) 753-9518. Comments and materials received will be available for public inspection, by appointment, during normal business hours at the above address.

FOR FURTHER INFORMATION CONTACT: Tim Romanski, Project Manager, U.S. Fish and Wildlife Service, (360) 753-5823; or Laura Hamilton, Project Manager, National Marine Fisheries Service, (360) 753-5820.

SUPPLEMENTARY INFORMATION: Hard bound copies are available for viewing, or duplication, at the following libraries: Woodland Community Library, 770 Park St, Woodland, WA (360) 225-2115; Battle Ground Community Library, 12 W Main St. Battle Ground, WA (360) 687-2322; Ridgefield Community Library, 210 N Main Ave, Ridgefield, WA (350)887-8281; Vancouver Community Library, 1007 E Mill Plain Blvd, Vancouver, WA (360) 695-1566; and, Olympia Timberland Library, Reference Desk, 313 8th Avenue SE, Olympia, WA (360)352-0595.

Background

J.L. Storedahl & Sons, Inc., owns and operates a gravel processing plant in rural Clark County, WA, adjacent the East Fork Lewis River. This site is known as the Daybreak Mine. It is located approximately 4 miles (6.4 km)southeast of the town of LaCenter, and approximately 1 mile (1.6 km) downstream of Clark County's Daybreak Park. The 300-acre (121.4 ha) site is composed of two parcels. One parcel is approximately 82 acres (33.2 ha) and consists of five pits, which were mined intermittently, under different owners, from 1968 to 1995. No active extraction of gravel from this site is now occurring. Current operations are limited to processing and distributing sand and gravel that is mined off-site. Processing involves separating the sand from the gravel, and separating the gravel into different size classes. The second parcel is located immediately to the north and east of this previously mined area, on a low terrace above the 100-year floodplain. This 178-acre (72.0 ha) parcel contains high quality sand and gravel deposits that have not been mined. Current operations on this parcel include cattle grazing and hay and crop production.

Storedahl proposes to mine the sand and gravel deposits from 101 acres (40.9 ha) of this 178-acre parcel, and continue processing operations at the other parcel. These operations would continue until sand and gravel extraction at the 178-acre parcel is complete, projected to be 15 years or less. Concurrent with, and following sand and gravel extraction, Storedahl would implement a site reclamation plan.

The proposed mining, processing, and reclamation activities have the potential to affect fish and wildlife associated with the East Fork Lewis River ecosystem. The majority of the gravel to be mined is located just below the water table in a shallow aquifer, and the proposed gravel mining and reclamation plan would create a series of open water ponds and emergent wetlands. The created ponds and wetlands would drain via a controlled outlet to a small creek (Dean Creek) and then to the East Fork Lewis River. The shallow aquifer is connected to the East Fork Lewis River. The proposed mining and reclamation plan has the potential to affect a suite of habitat conditions, including, but not limited to, water quality, channel morphology, riparian function, off-channel connections, and the conversion of pastureland to forest, wetland, and open water habitats. Some of these effects could involve species subject to protection under the ESA.

Section 10 of the ESA contains provisions for the issuance of Incidental Take Permits to non-Federal land owners for the take of endangered and threatened species. Any such take must be incidental to otherwise lawful activities, and must not appreciably reduce the likelihood of the survival and recovery of the species in the wild. As required under the Permit application process, Storedahl has developed, with assistance from the Services, a Habitat Conservation Plan (Plan) containing a strategy for minimizing and mitigating take associated with the proposed activities to the maximum extent practicable for their proposed activities adjacent to the East Fork Lewis River.

Activities proposed for coverage under the Permits include the following:

(1) Gravel mining and related activities in the terrace above the 100-year floodplain, with potential impacts on groundwater quality and quantity, potential impacts on surface water quality and quantity, potential influence on channel migration, and potential access to gravel ponds by anadromous salmonids.

(2) Gravel processing.

(3) Site reclamation activities including, but not limited to, the creation of emergent and open water wetland habitat and riparian and valley-bottom forest restoration; habitat rehabilitation, riparian irrigation, and low flow augmentation to Dean Creek; and construction of facilities (such as trails and parking lots) to support future incorporation of the site into the open space and greenbelt reserve.

(4) Monitoring and maintenance of conservation measures.

The duration of the proposed Permits and Plan is 25 years, though some aspects of the conservation measures associated with the proposed Plan would continue in-perpetuity.

The Services formally initiated an environmental review of the project through publication of a Notice of Intent to prepare an Environmental Impact Statement in the Federal Register on December 27, 1999 (64 FR 72318). That notice also announced a 30-day public scoping period during which interested parties were invited to provide written comments expressing their issues or concerns relating to the proposal. A second Federal Register notice was published on November 22, 2002 (67 FR 70408), announcing a 60-day public comment period for a draft Statement, draft Plan with appendices, and a draft Implementing Agreement. The comment period was extended an additional 30 days in direct response to requests from the public. This resulted in a total comment period of 90 days. Comments received on the draft documents and responses to those comments are included in the final Statement.

The final Statement compares Storedahl's proposal against two no-action alternatives. Differences between the no-action alternatives and the proposed action are considered to be the effects that would occur if the proposed action were implemented. One alternative to Storedahl's proposal is also analyzed against the two no-action alternatives. The analysis comparing these alternatives is contained in the final Statement.

Alternatives considered in the analysis include the following:

(1) Alternative A-1: Partition the property into 20-acre (8.1 ha) parcels and sell as rural residential/agricultural tracts - No Action.

(2) Alternative A-2: Mine the property without an ITP and avoid take - No Action.

(3) Alternative B: Mine and undertake habitat enhancement and reclamation activity at the Daybreak property implementing the May 2001 Public Review Draft HCP - Preferred Alternative.

(4) Alternative C: Mine and undertake habitat enhancement and reclamation activity at the Daybreak property following design and conservation measures presented to the Services in July, 2000.

One alternative was considered during scoping but not analyzed in detail. That alternative is essentially a combination of the two no-action alternatives listed above, Alternatives A-1 and A-2. That alternative would have involved mining on the portion of the property currently zoned for mining, with subsequent partitioning and sale of the mined and unmined property for low-density rural residential development. This was dismissed from detailed analysis because the vast majority of marketable sand and gravel on the portion of the property currently zoned for mining has already been extracted, rendering the alternative not feasible.

This notice is provided pursuant to section 10(a) of the ESA, and NEPA regulations. The Services will evaluate the application, associated documents, and comments submitted thereon to determine whether the application meets the requirements of the ESA and NEPA. If it is determined that the requirements are met, Permits will be issued for the incidental take of listed species. The final permit decision will be made no sooner than 30 days from the date of this notice.

Dated: October 30, 2003.
David J. Wesley,
Deputy Regional Director, Fish and Wildlife Service, Region 1, Portland Oregon.

November 10, 2003.
Phil Williams,
Chief, Endangered Species Division, Office of Protected Resources, National Marine Fisheries Service.

[FR Doc. 03-29730 Filed 11-26-03; 8:45 am]

BILLING CODES 3510-22-S, 4310-55-S